DEPARTMENT OF THE INTERIOR

Bureau of Safety and Environmental Enforcement

30 CFR Part 285

[Docket No. BSEE-2022-0015; EEEE500000 223E1700D2 ET1SF0000.EAQ000]

RIN 1082-AA03

Reorganization of Title 30—Renewable Energy and Alternate Uses of Existing Facilities on the Outer Continental Shelf; Correction

AGENCY: Bureau of Safety and Environmental Enforcement (BSEE), Interior.

ACTION: Correcting amendment.

SUMMARY: BSEE is publishing a correcting amendment to substitute new Office of Management and Budget (OMB) Control Number 1014-0034 for the placeholder included in the Paperwork Reduction Act statements—information collection promulgated in the final rule.

DATES: This correcting amendment is effective on August 14, 2023.

FOR FURTHER INFORMATION CONTACT: Nikki Mason, Program Analyst, at regs@bsee.gov, 703-787-1607.

SUPPLEMENTARY INFORMATION: BSEE is publishing a correction to the final rule, Reorganization of Title 30—Renewable Energy and Alternate Uses of Existing Facilities on the Outer Continental Shelf, which published in the Federal Register on January 31, 2023 [88 FR 6376], to add the OMB control number to BSEE's new § 285.114, Paperwork Reduction Act statements—information collection. Because the OMB control number could not be issued prior to publication of the final rule, BSEE included a placeholder for the control number at the relevant location in the regulation. OMB has since issued the control number, and this correction substitutes that number for the placeholder. Because this correction is clerical in nature only and does not impact the rights or interests of any party under the final rule, BSEE has good cause for not publishing this correction for notification and public comment, since such a publication is unnecessary.

List of Subjects in 30 CFR Part 285

Continental shelf, Energy, Environmental protection, Historic preservation, Marine resources, Marine safety, Natural resources, Ocean resources, Offshore energy, Offshore structures, Outer continental shelf, Renewable energy, Reporting and recordkeeping requirements, Safety, Wind energy.

Laura Daniel-Davis,
Principal Deputy Assistant Secretary, Land and Minerals Management.

Accordingly, the Bureau of Safety and Environmental Enforcement is making the correcting amendment to 30 CFR part 285 as follows:

PART 285—RENEWABLE ENERGY AND ALTERNATE USES OF EXISTING FACILITIES ON THE OUTER CONTINENTAL SHELF

1. The authority citation for part 285 continues to read as follows:

Authority: 43 U.S.C. 1331 et seq.

2. Amend § 285.114 by revising paragraph (a) to read as follows:

§ 285.114 Paperwork Reduction Act statements—information collection.

(a) The Office of Management and Budget (OMB) has approved the information collection requirements in 30 CFR part 285 under 43 U.S.C. 1331 et seq. and assigned OMB Control Number 1014-0034. The table in paragraph (e) of this section lists the subparts in the rule requiring the information and its title, summarizes the reasons for collecting the information, and summarizes how BSEE uses the information.

* * * * *

[FR Doc. 2023-17421 Filed 8-11-23; 8:45 am]

BILLING CODE 4310-VH-P